SMALL BUSINESS ADMINISTRATION

[Declaration of Disaster #P044]

Commonwealth of the Northern Mariana Islands (Amendment #1)

In accordance with a notice received from the Department of Homeland Security—Federal Emergency Management Agency, effective August 23, 2004, the above numbered Public Assistance declaration is hereby amended to include the islands of Agrigan, Alamagan, and Pagan located within the Commonwealth of Northern Mariana Islands as disaster areas due to damages caused by flooding, high surf, high winds, and wind driven rain associated with Typhoon Tingting occurring on June 27-29, 2004.

All other information remains the same, i.e., the deadline for filing applications for physical damage is September 27, 2004.

(Catalog of Federal Domestic Assistance Program Nos. 59008)
Dated: August 27, 2004.
Herbert L. Mitchell,
Associate Administrator for Disaster Assistance.

[FR Doc. 04-20181 Filed 9-3-04; 8:45 am]

BILLING CODE 8025-01-P